SMALL BUSINESS ADMINISTRATION

Notice Seeking Exemption Under Section 312 of the Small Business Investment Act, Conflicts of Interest

Notice is hereby given that TD Javelin Capital Fund II, LP (“TD Javelin II”), 2850 Cahaba Road, Suite 240, Birmingham, Alabama 35223, a Federal Licensee under the Small Business Investment Act of 1958, as amended (“the Act”), and TD Lighthouse Capital Fund, LP (“TD Lighthouse”, and together with TD Javelin II the “Funds”), 303 Detroit Street, Suite 301, Ann Arbor, Michigan 48104, a Federal Licensee under the Act, in connection with the financing of a small concern, have sought an exemption under section 312 of the Act and section 107.730, Financings which Constitute Conflicts of Interest of the Small Business Administration (“SBA”) rules and regulations (13 CFR 107.730 (2000)). The Funds propose to provide equity financing to Supplypro, Inc. (“Supplypro”), 6215 Ferris Square, San Diego, California 92121. The financing is contemplated for product development and working capital.

The financing is brought within the purview of Sec. 107.730 (a)(1) of the Regulations because Tullis-Dickerson Capital Focus II, LP, and TD Origen Capital Fund, LP, Associates of the Funds, currently own greater than 10 percent of Supplypro, and therefore Supplypro is considered an Associate of each of TD Javelin II and TD Lighthouse as defined in Sec. 107.50 of the regulations.

Notice is hereby given that any interested person may submit written comments on the transaction to the Associate Administrator for Investment, U.S. Small Business Administration, 409 Third Street, SW, Washington, DC 20416.

Dated: September 19, 2000.
Don A. Christensen,
Associate Administrator for Investment.

[FR Doc. 00-24818 Filed 9-26-00; 8:45 am]

BILLING CODE 8025-01-M